FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
013552N | Boston Shipping Enterprise, Inc., 506 Decatur Street, Brooklyn, NY 11233 | February 23, 2012.
014169N | Expedited Transportation Services, Inc., 505 Plantation Park Drive, Suite B, Loganville, GA 30052 | March 14, 2012.
020849N | Master Freight America Corp., 8925 NW 26th Street, Miami, FL 33172 | March 14, 2012.
021797F | Four Points Ocean Inc., 1460 Route 9 North, Suite 303, Woodbridge, NJ 07095 | March 1, 2012.
022238F | Grimes Supply Chain Services, Inc., 600 North Ellis Road, Jacksonville, FL 32254 | March 31, 2012.

Vern W. Hill,
Director, Bureau of Certification and Licensing.

[FR Doc. 2012-9988 Filed 4-24-12; 8:45 am]

BILLING CODE 6730-01-P